DEPARTMENT OF JUSTICE

Antitrust Division

Notice Pursuant to the National Cooperative Research and Production Act of 1993—Video-Enhanced Residential ADSL Broadband Technology

Notice is hereby given that, on February 17, 2004, pursuant to Section 6(a) of the National Cooperative Research and Production Act of 1993, 15 U.S.C. 4301 et seq. (“the Act”), Video-Enhanced Residential ADSL Broadband Technology has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Sarnoff Corporation, Princeton, NJ; SBC Technology Resources, Inc., Austin, TX; Alcatel USA, Plano, TX; and Thomson, Inc., Princeton, NJ. The nature and objectives of the venture are to accelerate adoption of ADSL by creating technology that will allow telecom operators to deploy a broad range of video services (in addition to data) with functionality that will make these services a strong competitor to cable and satellite offerings. Cable and satellite presently offer viewers a selection of over 100 channels, including live events. The new ADSL services will offer subscribers a similar selection. The revenue from these entertainment services will help defray the cost of ADSL deployment and make other services economically viable on an incremental basis.

Dorothy B. Fountain,
Deputy Director of Operations, Antitrust Division.

[FR Doc. 04-5455 Filed 3-10-04; 8:45 am]

BILLING CODE 4410-11-M